DEPARTMENT OF DEFENSE

Office of the Secretary

Defense Acquisition University Board of Visitors Meeting

AGENCY: Defense Acquisition University, DoD.

ACTION: Notice of meeting.

SUMMARY: The next meeting of the Defense Acquisition University (DAU) Board of Visitors (BoV) will be held at DAU Midwest Region in Kettering, Ohio. The purpose of this meeting is to report back to the BoV on continuing items of interest.

DATES: September 16, 2009 from 0900-1500.

ADDRESS: Holiday Inn Dayton Mall, 31 Prestige Plaza Drive, Miamisburg, OH 45342.

FOR FURTHER INFORMATION CONTACT: Ms. Christen Goulding at 703-805-5134.

SUPPLEMENTARY INFORMATION: The meeting is open to the public; however, because of space limitations, allocation of seating will be made on a first-come, first served basis. Persons desiring to attend the meeting should call Ms. Christen Goulding at 703-805-5134.

Dated: August 12, 2009.
Patricia L. Toppings,
OSD Federal Register Liaison Officer, Department of Defense.

[FR Doc. E9-19794 Filed 8-18-09; 8:45 am]

BILLING CODE 5001-06-P